DEPARTMENT OF VETERANS AFFAIRS

[OMB Control No. 2900-0546]

Gravesite Reservation Survey (2 Year); Correction

AGENCY: National Cemetery Administration, Department of Veterans Affairs.

ACTION: Notice; correction.

SUMMARY: The Department of Veterans Affairs (VA) published a collection of information notice in the Federal Register on December 7, 2010, that contained errors. The notice incorrectly identified the responsible VA organization. This document corrects that error by removing in two places “Veterans Benefits Administration” and adding, in each place, “National Cemetery Administration”.

FOR FURTHER INFORMATION CONTACT: Denise McLamb, Enterprise Records Service (005R1B), Department of Veterans Affairs, 810 Vermont Avenue, NW., Washington, DC 20420, at 202-461-7485.

Correction

In FR Doc. 2010-30554, published on December 7, 2010, at 75 FR 76082, make the following correction. On page 76082, in the first column, at the Agency heading and in the Summary, remove in both places “Veterans Benefits Administration” and add, in each place, “National Cemetery Administration”.

Dated: December 8, 2010.
Gloria P. Armstrong,
Federal Register Liaison Officer, Department of Veterans Affairs.

[FR Doc. 2010-31299 Filed 12-13-10; 8:45 am]

BILLING CODE 8320-01-P